DEPARTMENT OF TRANSPORTATION

Federal Aviation Administration

14 CFR Part 73

[Docket No. FAA-2024-1993; Airspace Docket No. 23-AEA-7]

RIN 2120-AA66

Amendment of Restricted Area R-5801 and Revocation of R-5803; Chambersburg, PA

AGENCY: Federal Aviation Administration (FAA), DOT.

ACTION: Notice of proposed rulemaking (NPRM).

SUMMARY: This action proposes to amend restricted area R-5801 and revoke R-5803 at United States (U.S.) Army, Letterkenny Army Depot (LEAD), Chambersburg, PA. The purpose of this proposal is to extend the time of designation for R-5801 to include Saturdays from 0800-1600 local time, and to return R-5803 to the National Airspace System (NAS).

DATES: Comments must be received on or before September 16, 2024.

ADDRESSES: Send comments identified by FAA Docket No. FAA-2024-1993 and Airspace Docket No. 23-AEA-7 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, section 40103. Under that section, the FAA is charged with prescribing regulations to assign the use of the airspace necessary to ensure the safety of aircraft and the efficient use of airspace. This regulation is within the scope of that authority as it amends restricted area airspace at Chambersburg, PA, to enhance aviation safety and accommodate essential U.S. Army activities.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address, phone number, and hours of operation). An informal docket may also be examined during normal business hours at the office of the Eastern Service Center, Federal Aviation Administration, Room 210, 1701 Columbia Avenue, College Park, GA 30337.

Background

The U.S. Army submitted a proposal to the FAA to amend the time of designation for existing restricted area R-5801 to include Saturdays from 0800-1600 local time, and to revoke restricted area R-5803 at U.S. Army, Letterkenny Army Depot (LEAD), Chambersburg, PA. Restricted areas R-5801 and R-5803 are currently used for the open detonation of obsolete ammunition and explosives for the U.S. Army. Restricted area R-5803 is defined as a circular area with a 5,500-foot radius centered at lat. 40°02′29″ N, long. 77°44′19″ W from the surface to 4,000 feet mean sea level (MSL). Restricted area R-5803 has a time of designation from 0800 to 1600 local time, Monday-Friday.

This proposal would consolidate open detonations to R-5801 and return restricted area R-5803 to the NAS which would improve scheduling, activation, and utilization efficiency of restricted area R-5801 while reducing the overall restricted airspace near the Chambersburg, PA area.

The Proposal

The FAA is proposing an amendment to 14 CFR part 73 to amend restricted area R-5801 and revoke restricted area R-5803 at U.S. Army, Letterkenny Army Depot (LEAD), Chambersburg, PA. The proposed changes are described below.

R-5801: R-5801 time of designation is currently 0800 to 1600 local time, Monday through Friday. The FAA proposes to extend the time of designation to 0800 to 1600 local time, Monday through Saturday. This change would provide additional required time for the U.S. Army to execute open detonation of obsolete ammunition and explosives. This amendment does not propose to alter the boundaries or altitudes associated with R-5801.

R-5803: R-5803 serves as a secondary site for detonation of munitions and has been determined that it is no longer needed to meet the U.S. Army's weapons and munition disposal requirements. R-5803 would be revoked and the airspace would be returned to the NAS.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.58 Pennsylvania [Amended]

2. Section 73.58 is amended as follows:

* * * * *

R-5801 Chambersburg, PA [Amended]

Boundaries. The arc of a circle, having a 5,000-foot radius, centered at lat. 39°59′44″ N, long. 077°43′54″ W.

Designated altitudes. Surface to 4,000 feet MSL.

Time of designation. 0800 to 1600 local time, Monday-Saturday.

Using agency. U.S. Army, Commanding Officer, Letterkenny Ordnance Depot, Chambersburg, PA.

* * * * *

R-5803 Chambersburg, PA [Removed]

* * * * *

Issued in Washington, DC, on July 23, 2024.
Frank Lias,
Manager, Rules and Regulations Group.

[FR Doc. 2024-16554 Filed 7-31-24; 8:45 am]

BILLING CODE 4910-13-P